DEPARTMENT OF THE INTERIOR

Fish and Wildlife Service

[FWS-R1-ES-2015-N227; FXES11130100000-167-FF01E00000]

Endangered Species; Recovery Permit Applications

AGENCY: Fish and Wildlife Service, Interior.

ACTION: Notice of availability; request for comments.

SUMMARY: We, the U.S. Fish and Wildlife Service, invite the public to comment on the following applications for recovery permits to conduct activities with the purpose of enhancing the survival of endangered species. The Endangered Species Act of 1973, as amended (Act), prohibits certain activities with endangered species unless a Federal permit allows such activity. The Act also requires that we invite public comment before issuing such permits.

DATES: To ensure consideration, please send your written comments by January 13, 2016.

ADDRESSES: Program Manager, Restoration and Endangered Species Classification, Ecological Services, U.S. Fish and Wildlife Service, Pacific Regional Office, 911 NE 11th Avenue, Portland, OR 97232-4181. Please refer to the permit number for the application when submitting comments.

FOR FURTHER INFORMATION CONTACT: Colleen Henson, Fish and Wildlife Biologist, at the above address, or by telephone (503-231-6131) or fax (503-231-6243).

SUPPLEMENTARY INFORMATION:

Background

The Act (16 U.S.C. 1531 et seq.) prohibits certain activities with respect to endangered and threatened species unless a Federal permit allows such activity. Along with our implementing regulations in the Code of Federal Regulations (CFR) at 50 CFR part 17, the Act provides for certain permits, and requires that we invite public comment before issuing these permits for endangered species.

A permit granted by us under section 10(a)(1)(A) of the Act authorizes the permittee to conduct activities (including take or interstate commerce) with respect to U.S. endangered or threatened species for scientific purposes or enhancement of propagation or survival. Our regulations implementing section 10(a)(1)(A) of the Act for these permits are found at 50 CFR 17.22 for endangered wildlife species, 50 CFR 17.32 for threatened wildlife species, 50 CFR 17.62 for endangered plant species, and 50 CFR 17.72 for threatened plant species.

Applications Available for Review and Comment

We invite local, State, and Federal agencies and the public to comment on the following applications. Please refer to the permit number for the application when submitting comments.

Documents and other information submitted with these applications are available for review by request from the Program Manager for Restoration and Endangered Species Classification at the address listed in the ADDRESSES section of this notice, subject to the requirements of the Privacy Act (5 U.S.C. 552a) and the Freedom of Information Act (5 U.S.C. 552).

Permit Number: TE-702631

Applicant: Assistant Regional Director, Ecological Services, Fish and Wildlife Service, Pacific Region, Portland, Oregon.

The applicant requests a permit amendment to allow Service employees and their designated agents to remove and reduce to possession (collect plants and their parts) the following Micronesian plant species and to take the following Micronesian animal species:

Scientific name | Common name(s)
Plants: | NCN.
Eugenia bryanii | NCN.
Hedyotis megalantha | pao dedu Ch, pao doodu.CI
Heritiera longipetiolata | ufa halomtanu Ch, ufa hålom tano.CI
Phyllanthus saffordii | NCN.
Psychotria malaspinae | aplokating palaoan.Ch/CI
Solanum guamense | NCN.
Tinospora homosepala | NCN.
Animals: |
Emballonura semicaudata rotensis | Pacific sheath-tailed bat (Mariana subspecies), payeyi Ch, paischeey.CI
Emoia slevini | Slevin's skink, Marianas Emoia, Marianas skink, gualiik halumtanu.Ch, gholuuf CI
Hypolimnas octocula mariannensis | Mariana eight-spot butterfly, ababbang Ch, Libweibwogh.CI
Vagrans egistina | Mariana wandering butterfly, ababbang Ch, Libweibwogh.CI
Ischnura luta | Rota blue damselfly, dulalas Luta Ch, dulalas Luuta.CI
Partula gibba | humped tree snail, akaleha Ch, denden.CI
Partula langfordi | Langford's tree snail, akaleha Ch, denden.CI
Partula radiolata | Guam tree snail, akaleha Ch, denden.CI
Samoana fragilis | fragile tree snail, akaleha dogas Ch, denden.CI
NCN = no common name.
Ch = Chamorro name.
CI = Carolinian name.

The purpose of these activities is to carry out recovery activities for scientific purposes or for enhancing the species' propagation or survival in Guam and the Commonwealth of the Northern Marianas Islands.

Permit Number: TE-40123A

Applicant: U.S. Army Garrison, Pohakuloa Training Area, Hilo, Hawaii.

The applicant requests a permit renewal to remove and reduce to possession (collect plants and their parts) Asplenium fragile var. insulare (no common name (ncn)), Haplostachys haplostachya (honohono), Kadua coriacea (kioele), Isodendrion hosakae (aupaka), Lipochaeta venosa (ncn), Neraudia ovata (ncn), Portulaca sclerocarpa (poe) Silene lanceolata (ncn), Solanum incompletum (popolo ku mai), Spermolepis hawaiiensis (ncn), Stenogyne angustifolia var. angustifolia (ncn), Tetramolopium arenarium (ncn), Vigna o-wahuensis (ncn), and Zanthoxylum hawaiiense (ae) at Pohakuloa Training Area, Hawaii Island, Hawaii, in conjunction with ex situ genetic storage, controlled propagation, and outplanting for the purpose of enhancing the species' survival.

Permit Number: TE-80996B

Applicant: Marguerite Butler-Higa, University of Hawaii, Honolulu, Hawaii.

The applicant requests a new recovery permit renewal to take (capture, mark release, and collect bio-samples) blackline Hawaiian damselfly (Megalagrion nigrohamatum nigrolineatum), Oceanic Hawaiian damselfly (Megalagrion oceanicum), and crimson Hawaiian damselfly (Megalagrion leptodemas) in conjunction with population and genetic studies for the purpose of enhancing the species' survival.

Public Availability of Comments

All comments and materials we receive in response to this request will be available for public inspection, by appointment, during normal business hours at the address listed in the ADDRESSES section.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: December 4, 2015.
Richard Hannan,
Acting Regional Director, Pacific Region, U.S. Fish and Wildlife Service.

[FR Doc. 2015-31424 Filed 12-11-15; 8:45 am]

BILLING CODE 4333-15-P